DEPARTMENT OF ENERGY

Federal Energy Regulatory Commission

[Project No. 2570-033]

AEP Generation Resources, Inc.; Eagle Creek Racine Hydro, LLC; Notice of Application for Transfer of License and Soliciting Comments, Motions To Intervene, and Protests

On March 5, 2021, AEP Generation Resources, Inc. (transferor) and Eagle Creek Racine Hydro, LLC (transferee) filed jointly an application for the transfer of license of the Racine Hydroelectric Project No. 2570. The project is located at the U.S. Army Corps of Engineers' (Corps) Racine Locks and Dam on the Ohio River near the Town of Racine in Meigs County, Ohio. The project occupies 23 acres of federal land administered by the Corps.

The applicants seek Commission approval to transfer the license for the Racine Hydroelectric Project from the transferor to the transferee.

Applicants Contact: For transferor, AEP Generation Resources, Inc.: Ms. Kimberly Ognisty, Winston & Strawn LLP, 1901 L Street NW, Washington, DC 20036, Phone: (202) 282-5217, Email: kognisty@winston.com and Mr. John C. Crespo, American Electric Power Corporation, 1 Riverside Plaza, Columbus, OH 43215, Phone: (614) 716-3727, Email: jccrespo@aep.com.

For transferee, Eagle Creek Racine Hydro, LLC: Mr. Joshua E. Adrian, Duncan Weinberg, Genzer & Pembroke, P.C., 1667 K Street NW, Suite 700, Washington, DC 20006, Phone: (202) 467-6370, Email: jea@dwgp.com.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-2570-033. Comments emailed to Commission staff are not considered part of the Commission record.

Dated: April 5, 2021.
Kimberly D. Bose,
Secretary.

[FR Doc. 2021-07323 Filed 4-8-21; 8:45 am]

BILLING CODE 6717-01-P